DEPARTMENT OF COMMERCE

International Trade Administration

[A-201-830]

Carbon and Certain Alloy Steel Wire Rod From Mexico: Preliminary Results and Partial Rescission of the Antidumping Duty Administrative Review; 2022-2023

AGENCY: Enforcement and Compliance, International Trade Administration, Department of Commerce.

SUMMARY: The U.S. Department of Commerce (Commerce) preliminarily determines that sales of carbon and certain alloy steel wire rod (wire rod) from Mexico were made at less than normal value during the period of review (POR), October 1, 2022, through September 30, 2023. Additionally, Commerce is rescinding this administrative review with respect to one company. We invite interested parties to comment on these preliminary results.

DATES: Applicable November 14, 2024.

FOR FURTHER INFORMATION CONTACT: Laurel LaCivita or Matthew Palmer, AD/CVD Operations, Office III, Enforcement and Compliance, International Trade Administration, U.S. Department of Commerce, 1401 Constitution Avenue NW, Washington, DC 20230; telephone: (202) 482-4243 or (202) 482-1678, respectively.

SUPPLEMENTARY INFORMATION:

Background

On October 29, 2002, Commerce published the antidumping duty order on wire rod from Mexico in the Federal Register.¹ On October 3, 2023, we published in the Federal Register a notice of opportunity to request an administrative review of the Order.² On December 6, 2023, pursuant to section 751(a)(1) of the Tariff Act of 1930, as amended (the Act), Commerce initiated an administrative review of the Order ³ on wire rod from Mexico covering the following nine exporters/producers: ArcelorMittal Mexico S.A. de C.V. (AMM); Comercializadora Eloro S.A. (Comercializadora Eloro); Deacero S.A.. de C.V./Deacero S.A.P.I. de C.V. (Deacero); Deacero Summit S.A.P.I. de C.V. (Deacero Summit); Grupo Villacero S.A. de C.V. (Villacero); Ingeteknos Estructurales S.A. (Ingeteknos); TA 2000 S.A. de C.V. (TA 2000); Talleres y Aceros S.A. de C.V. (Talleres y Aceros); and Ternium Mexico S.A. de C.V. (Ternium). On June 7, 2024, we extended the preliminary results of this review to August 21, 2024.⁴ On July 22, 2024, Commerce tolled certain deadlines in this administrative proceeding by seven days.⁵ On August 9, 2024, we further extended the preliminary results of this review to November 6, 2024.⁶

¹ See Notice of Antidumping Duty Orders: Carbon and Certain Alloy Steel Wire Rod from Brazil, Indonesia, Mexico, Moldova, Trinidad and Tobago, and Ukraine, 67 FR 65945 (October 29, 2002) (Order).

² See Antidumping or Countervailing Duty Order, Finding, or Suspended Investigation; Opportunity To Request Administrative Review and Join Annual Inquiry Service List, 88 FR 68098 (October 3, 2023).

³ See Initiation of Antidumping and Countervailing Duty Administrative Reviews, 88 FR 84784, 84786 (December 6, 2023) (Initiation Notice).

⁴ See Memorandum, “Extension of Deadline for Preliminary Results of Antidumping Duty Administrative Review,” dated June 7, 2024.

⁵ See Memorandum, “Tolling of Deadlines for Antidumping and Countervailing Duty Proceedings,” dated July 22, 2024.

⁶ See Memorandum, “Extension of Deadline for Preliminary Results of Antidumping Duty Administrative Review,” dated August 9, 2024.

For a complete description of the events that followed the initiation of this review, see the Preliminary Decision Memorandum.⁷ A list of topics discussed in the Preliminary Decision Memorandum is attached as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁷ See Memorandum, “Decision Memorandum for the Preliminary Results and Partial Rescission of the Administrative Review of the Antidumping Duty Order on Carbon and Certain Alloy Steel Wire Rod from Mexico; 2022-2023,” dated concurrently with, and hereby adopted by, this notice (Preliminary Decision Memorandum).

Scope of the Order

The merchandise subject to the Order is wire rod, in coils.

A full description of the scope of the Order is contained in the Preliminary Decision Memorandum.

Partial Rescission of Review

As noted above, we initiated this review with respect to nine companies.⁸ During the course of the review, we selected two mandatory respondents.⁹ Thus, there are seven companies upon which this review was requested, and which were not selected for individual examination: (1) AMM; (2) Comercializadora Eloro; (3) Deacero Summit; (4) Villacero; (5) Ingeteknos; (6) Talleres y Aceros; and (7) Ternium.

⁸ See Initiation Notice.

⁹ See Memorandum, “Selection of Respondents for Individual Examination,” dated January 11, 2024.

Commerce received timely withdrawal requests within 90 days of the date of publication of the Initiation Notice, with respect to: AMM; Commercialiazadora Eloro; Villacero; and Ternium.¹⁰ As a result, Commerce is rescinding this review, in part, with respect to the four companies referenced above in accordance with 19 CFR 351.213(d)(1).

¹⁰ See CMC/Nucor's Letter, “Partial Withdrawal of Request for Administrative Review,” dated March 5, 2024.

In addition, pursuant to 19 CFR 351.213(d)(3), Commerce will rescind an administrative review when there are no reviewable suspended entries. Based on our analysis of the U.S. Customers and Border Protection (CBP) information, five companies listed in the Initiation Notice had no entries of subject merchandise during the POR, specifically: AMM; Commercialiazadora Eloro; Villacero; Ingeteknos; and Talleres y Aceros. On December 20, 2023, we notified parties of our intent to rescind this administrative review with respect to the above-referenced five companies that had no reviewable suspended entries during the POR.¹¹ On January 5, 2024, we received comments on our Intent to Rescind Memorandum from CMC/Nucor.¹² Furthermore, on August 30, 2024, we notified parties of our intent to rescind this administrative review with respect to Deacero Summit.¹³ We did not receive comments regarding our intent to rescind the above-referenced entity.

¹¹ See Commerce's Letter, “Notice of Intent to Rescind Review, In Part,” dated December 20, 2023 (Intent to Rescind Memorandum).

¹² See CMC/Nucor's Letter, “Comments on Notice of Intent to Rescind,” dated January 5, 2024.

¹³ See Memorandum, “Notice of Intent to Rescind Review, In Part,” dated August 30, 2024.

After considering the comments received, and consistent with 19 CFR 351.213(d)(3), we are rescinding this review, in part, with respect to Ingeteknos and Deacero Summit, which both had no entries in the POR and for which withdrawal requests were not previously received from all parties requesting review.¹⁴ As explained above, in accordance with 19 CFR 351.213(d)(1), Commerce is also rescinding this review, in part, with respect to four companies which received timely withdrawal requests: AMM, Commercialiazadora Eloro; Villacero; and Ternium. As a result, we are rescinding this review, in part, with respect to a total of six companies, which are referenced above.¹⁵

¹⁴ Id.

¹⁵ Id.

Methodology

Commerce is conducting this review in accordance with section 751(a)(1)(B) of the Act. Export price and constructed export price were calculated in accordance with section 772 of the Act. Normal value was calculated in accordance with section 773 of the Act. For a full description of the methodology underlying our conclusions, see the Preliminary Decision Memorandum.

Preliminary Results of Review

As a result of this review, we preliminarily determine the following estimated weighted-average dumping margins exist for the POR:

¹⁶ As discussed in further detail in the Preliminary Decision Memorandum, we preliminarily determine that TA 2000 is the successor-in-interest to Talleres y Aceros.

Producer/exporter | Weighted- average dumping margin (percent)
TA 2000 S.A. de C.V.¹⁶ | 18.09
Deacero S.A.P.I. de C.V | 13.46

Disclosure and Public Comment

Commerce intends to disclose the calculations performed in connection with these preliminary results to interested parties within five days after the date of publication of this notice, or, if there is no public announcement, within five days of the date of publication of this notice in accordance with 19 CFR 351.224(b).¹⁷

¹⁷ See 19 CFR 351.224(b).

Interested parties may submit case briefs no later than 30 days after the date of publication of this notice.¹⁸ Rebuttal briefs, limited to issues raised in the case briefs, may be filed no later than five days after the date for filing case briefs.¹⁹ Interested parties who submit case briefs or rebuttal briefs in this proceeding must submit: (1) a table of contents listing each issue; and, (2) a table of authorities.²⁰

¹⁸ See 19 CFR 351.309(c)(1)(ii)

¹⁹ See 19 CFR 351.309(d); see also Administrative Protective Order, Service, and Other Procedures in Antidumping and Countervailing Duty Proceedings, 88 FR 67069, 67077 (September 29, 2023) (APO and Service Procedures).

²⁰ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.²¹ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).²²

²¹ We use the term “issue” here to describe an argument that Commerce would normally address in a comment of the Issues and Decision Memorandum.

²² See APO and Service Procedures.

Interested parties who wish to request a hearing must submit a written request to the Assistant Secretary for Enforcement and Compliance, U.S. Department of Commerce, using Enforcement and Compliance's ACCESS system within 30 days of publication of this notice.²³ Requests should contain the party's name, address, and telephone number, the number of participants, and a list of the issues to be discussed. Issues raised in the hearing will be limited to those raised in the case and rebuttal briefs. If a request for a hearing is made, we will inform parties of the scheduled date for the hearing at a time and location to be determined.²⁴ Parties should confirm by telephone the date, time, and location of the hearing no fewer than two days before the scheduled date. Parties are reminded that all briefs and hearing requests must be filed electronically using ACCESS and received successfully in their entirety by 5:00 p.m. Eastern Time on the due date.

²³ See 19 CFR 351.310(c).

²⁴ See 19 CFR 351.310.

Unless the deadline is extended pursuant to section 751(a)(3)(A) of the Act and 19 CFR 351.213(h)(2), Commerce will issue the final results of this administrative review, including the results of our analysis of the issues raised by the parties in their case briefs, not later than 120 days after the date of publication of this notice, pursuant to section 751(a)(3)(A) of the Act.

Assessment Rates

Upon issuance of the final results, Commerce shall determine, and U.S. Customs and Border Protection (CBP) shall assess, antidumping duties on all appropriate entries covered by this review. The final results of this review shall be the basis for the assessment of antidumping duties on entries of merchandise covered by the final results of this review and for future deposits of estimated duties, where applicable.²⁵ Commerce intends to issue assessment instructions to CBP no earlier than 41 days after the date of publication of the final results of this review in the Federal Register, in accordance with 19 CFR 356.8(a).

²⁵ See section 751(a)(2)(C) of the Act.

For any individually examined respondents whose weighted-average dumping margin is above de minimis (i.e., 0.50 percent), we will calculate importer-specific ad valorem antidumping duty assessment rates based on the ratio of the total amount of dumping calculated for the importer's examined sales to the total entered value of those same sales in accordance with 19 CFR 351.212(b)(1).²⁶ If the respondent has not reported entered values, we will calculate a per-unit assessment rate for each importer by dividing the total amount of dumping calculated for the examined sales made to that importer by the total quantity associated with those sales. We will instruct CBP to assess antidumping duties on all appropriate entries covered by this review when the importer-specific assessment rate calculated in the final results of this review is above de minimis (i.e., 0.50 percent).²⁷ Where either the respondent's weighted-average dumping margin is zero or de minimis, or an importer-specific assessment rate is zero or de minimis, we will instruct CBP to liquidate the appropriate entries without regard to antidumping duties.

²⁶ In these preliminary results, Commerce applied the assessment rate calculation method adopted in Antidumping Proceedings: Calculation of the Weighted-Average Dumping Margin and Assessment Rate in Certain Antidumping Proceedings; Final Modification, 77 FR 8101 (February 14, 2012).

²⁷ As noted above, we preliminarily determine that TA 2000 is the successor-in-interest to Talleres y Aceros. Accordingly, we intend to issue assessment instructions covering any entries produced and exported by Talleres y Aceros during the POR at the rate established for TA 2000 in these final results.

In accordance with Commerce's “automatic assessment” practice, for entries of subject merchandise during the POR produced by each respondent which did not know that its merchandise was destined for the United States, we will instruct CBP to liquidate entries not reviewed at the all-others rate of 20.11 percent ²⁸ if there is no rate for the intermediate company(ies) involved in the transaction.

²⁸ See Order, 67 FR at 65947.

For the companies for which the administrative review is rescinded, antidumping duties shall be assessed at a rate equal to the cash deposit of estimated antidumping duties required at the time of entry, or withdrawal from warehouse, for consumption, in accordance with 19 CFR 351.212(c)(1)(i).

Cash Deposit Requirements

The following cash deposit requirements will be effective upon publication of the notice of final results of administrative review for all shipments of wire rod from Mexico entered, or withdrawn from warehouse, for consumption on or after the date of publication of the final results, as provided by section 751(a)(2) of the Act: (1) the cash deposit rate for the firms listed above will be equal to the dumping margins established in the final results of this review, except if the ultimate rates are de minimis within the meaning of 19 CFR 351.106(c)(1), in which case the cash deposit rates will be zero; (2) for merchandise exported by producers or exporters not covered in this administrative review but covered in a prior segment of the proceeding, the cash deposit rate will continue to be the company-specific rate published for the most recently completed segment of this proceeding in which the producer or exporter participated; (3) if the exporter is not a firm covered in this review, a prior review, or the original less-than-fair-value investigation but the producer is, then the cash deposit rate will be the rate established for the most recently completed segment of the proceeding for the producer of the merchandise; and (4) the cash deposit rate for all other producers or exporters will continue to be 20.11 percent, the all-others rate established in the antidumping duty investigation.²⁹ These cash deposit requirements, when imposed, shall remain in effect until further notice.

²⁹ See Order, 67 FR at 65947.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act, 19 CFR 351.213(h)(2), and 19 CFR 351.221(b)(4).

Dated: November 6, 2024.
Abdelali Elouaradia,
Deputy Assistant Secretary for Enforcement and Compliance.

Appendix

List of Topics Discussed in the Preliminary Decision Memorandum

I. Summary

II. Background

III. Scope of the Order

IV. Preliminary Successor in Interest Determination

V. Rescission of Review, in Part

VI. Discussion of Methodology

VII. Currency Conversion

VIII. Recommendation

[FR Doc. 2024-26460 Filed 11-13-24; 8:45 am]

BILLING CODE 3510-DS-P